DEPARTMENT OF ENERGY

Federal Energy Regulatory Commission

[Docket No. CP04-57-000]

Southern Star Central Gas Pipeline, Inc; Notice of Application

January 30, 2004.

Take notice that on January 23, 2004, Southern Star Central Gas Pipeline, Inc. (Southern Star), 3800 Frederica Street, Owensboro, Kentucky 42301, filed in Docket No. CP04-57-000 an application pursuant to Section 7(b) of the Natural Gas Act (NGA) for permission and approval to abandon the Carter-Waters 4-inch pipeline XS-6 and appurtenant facilities and one domestic tap in Platte County, Missouri, all as more fully set forth in the application which is on file with the Commission and open to public inspection.

Southern Star states the pipeline was constructed in 1950 to provide gas service to The Carter-Waters Corporation (Buildex), a quarry operation near New Market, Missouri, for use in its haydite plant. Souther Star further states that the Buildex measurement facilities were relocated in 1999 to the nearby Dearborn 6-inch pipeline XS-7 in order to locate them outside of the quarry area, and the Carter-Waters pipeline is no longer needed to provide the gas service for which it was originally constructed. Southern Star states that it proposes to abandon the pipeline in place where the land restoration to original condition will be difficult to obtain and to reclaim those sections where the land can be backfilled and seeded to restore to original condition and all aboveground auxiliary facilities such as meters, piping, regulators and fencing will be reclaimed. Southern Star states that those domestic customers who do not have a tap clause on another pipeline will be converted at Southern Star's sole expense to propane gas service.

Any questions concerning this application may be directed to David N. Roberts, Manager, Regulatory Affairs, at (270) 852-4654.

Any person desiring to be heard or to protest said filing should file a motion to intervene or a protest with the Federal Energy Regulatory Commission, 888 First Street, NE., Washington, DC 20426, in accordance with Sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary.” Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Comment Date: February 20, 2004.

Magalie R. Salas,
Secretary.

[FR Doc. E4-195 Filed 2-5-04; 8:45 am]

BILLING CODE 6717-01-P